CONSUMER PRODUCT SAFETY COMMISSION

Sunshine Act Meeting

TIME AND DATE: Wednesday, April 30, 2025—10:00 a.m. (See MATTER TO BE CONSIDERED).

PLACE: Room 420, Bethesda Towers, 4330 East West Highway, Bethesda, MD.

STATUS: Commission Meeting—Open to the public.

MATTER TO BE CONSIDERED:

Open Session

Decisional Matter: Notice of Proposed Rulemaking—Safety Standard for Lithium-Ion Batteries Micromobility Products.

A live webcast of the meeting can be viewed at the following link: https://events.gcc.teams.microsoft.com/event/db2e281f-bcf6-40c6-9b2d-e8ff1913b87b@7f5de26c-a63d-475c-9b6c-4126a914e132.

CONTACT PERSON FOR MORE INFORMATION: Alberta E. Mills, Office of the Secretary, U.S. Consumer Product Safety Commission, 4330 East West Highway, Bethesda, MD 20814, 301-504-7479.

Dated: April 23, 2025.
Alberta Mills,
Commission Secretary.

[FR Doc. 2025-07254 Filed 4-23-25; 11:15 am]

BILLING CODE 6355-01-P